DEPARTMENT OF EDUCATION

Notice Extending the Deadline Date for Transmittal of Applications and the Deadline Date for Intergovernmental Review for the Migrant Education Program (MEP) Consortium Incentive Grants Program for Fiscal Year (FY) 2010

AGENCY: Office of Elementary and Secondary Education, Department of Education.

ACTION: Notice Extending the Deadline Date for Transmittal of Applications and the Deadline Date for Intergovernmental Review for the Migrant Education Program (MEP) Consortium Incentive Grants Program for Fiscal Year (FY) 2010.

Catalog of Federal Domestic Assistance (CFDA) Number: 84.144F.

SUMMARY: On April 1, 2010, we published in the Federal Register (75 FR 16446) a notice inviting applications for new awards for FY 2010 for the MEP Consortium Incentive Grants program. That notice specified a deadline date of May 7, 2010, for the submission of applications. Since publication, however, we have learned that certain State educational agencies need additional time to receive approval from their State legislatures to apply for the grant. Therefore, in order to give applicants adequate time to receive that approval to apply and to submit their application packages, we are changing the deadline for the submission of applications to June 4, 2010. As a result of this extension of the deadline for submissions of applications, we are also extending the deadline for intergovernmental review to August 4, 2010. Applicants must refer to the April 1, 2010 Application Notice for all other requirements concerning this program.

DATES: Deadline for Transmittal of MEP consortium Incentive Grants Program Applications: June 4, 2010.

Deadline for Intergovernmental Review: August 4, 2010.

FOR FURTHER INFORMATION CONTACT: Michelle Moreno, U.S. Department of Education, Office of Migrant Education, 400 Maryland Avenue, SW., room 3E257, Washington, DC 20202-6135. Telephone: (202) 401-2928, or by e-mail: michelle.moreno@ed.gov.

If you use a telecommunications device for the deaf (TDD), call the Federal Relay Service (FRS), toll free, at 1-800-877-8339.

SUPPLEMENTARY INFORMATION: Accessible Format: Individuals with disabilities can obtain this document in an accessible format (e.g., braille, large print, audiotape, or computer diskette) on request to the program contact person listed under FOR FURTHER INFORMATION CONTACT in this notice.

Electronic Access to This Document: You can view this document, as well as all other documents of this Department published in the Federal Register, in text or Adobe Portable Document Format (PDF) on the Internet at the following site: http://www.ed.gov/news/fedregister. To use PDF you must have Adobe Acrobat Reader, which is available free at this site.

You may also view this document in text at the following site: http://www.ed.gov/about/offices/list/oese/ome/index.html.

Note: The official version of this document is the document published in the Federal Register. Free Internet access to the official edition of the Federal Register and the Code of Federal Regulations is available on GPO Access at: http://www.gpoaccess.gov/nara/index.html.

Program Authority: 20 U.S.C. 6398(d).

Dated: May 4, 2010.
Thelma Meléndez de Santa Ana,
Assistant Secretary for Elementary and Secondary Education.

[FR Doc. 2010-10870 Filed 5-6-10; 8:45 am]

BILLING CODE 4000-01-P